DEPARTMENT OF ENERGY

Federal Energy Regulatory Commission

Combined Notice of Filings #1

Take notice that the Commission received the following electric corporate filings:

Docket Numbers: EC11-60-001.

Applicants: Duke Energy Corporation.

Description: Compliance Filing of Duke Energy Corporation and Progress Energy, Inc.

Filed Date: 10/17/2011.

Accession Number: 20111017-5129.

Comment Date: 5 p.m. Eastern Time on Wednesday, November 16, 2011.

Take notice that the Commission received the following exempt wholesale generator filings:

Docket Numbers: EG12-3-000.

Applicants: South Chestnut LLC.

Description: Self-Certification of EWG Status of South Chestnut LLC.

Filed Date: 10/17/2011.

Accession Number: 20111017-5042.

Comment Date: 5 p.m. Eastern Time on Monday, November 07, 2011.

Take notice that the Commission received the following electric rate filings:

Docket Numbers: ER11-4151-002.

Applicants: California Independent System Operator Corporation.

Description: California Independent System Operator Corporation submits tariff filing per 35: 2011-10-17 CAISO NRS-RA Compliance Filing to be effective 1/1/2012.

Filed Date: 10/17/2011.

Accession Number: 20111017-5116.

Comment Date: 5 p.m. Eastern Time on Monday, November 07, 2011.

Docket Numbers: ER12-94-000.

Applicants: Golden Spread Electric Cooperative, Inc.

Description: Golden Spread Electric Cooperative, Inc. submits tariff filing per 35.13(a)(2)(iii: Revised Wholesale Power Contracts Filing to be effective 12/16/2011.

Filed Date: 10/17/2011.

Accession Number: 20111017-5032.

Comment Date: 5 p.m. Eastern Time on Monday, November 07, 2011.

Docket Numbers: ER12-95-000.

Applicants: Midwest Independent Transmission System Operator, Inc.

Description: Midwest Independent Transmission System Operator, Inc. submits tariff filing per 35.13(a)(2)(iii: Amended Duke-Vectren (SA 1391) to be effective 10/18/2011.

Filed Date: 10/17/2011.

Accession Number: 20111017-5033.

Comment Date: 5 p.m. Eastern Time on Monday, November 07, 2011.

Docket Numbers: ER12-96-000.

Applicants: South Chestnut LLC.

Description: South Chestnut LLC submits tariff filing per 35.12: Market-Based Rate Application to be effective 10/18/2011.

Filed Date: 10/17/2011.

Accession Number: 20111017-5041.

Comment Date: 5 p.m. Eastern Time on Monday, November 07, 2011.

Docket Numbers: ER12-97-000.

Applicants: Fairchild Energy, LLC.

Description: Fairchild Energy, LLC submits tariff filing per 35: Compliance Filing to be effective 9/23/2011.

Filed Date: 10/17/2011.

Accession Number: 20111017-5067.

Comment Date: 5 p.m. Eastern Time on Monday, November 07, 2011.

Docket Numbers: ER12-98-000; ER12-99-000.

Applicants: 330 Fund I, L.P., 330 Investment Management, LLC.

Description: 330 Investment Management, LLC submits notification of withdrawal of market based rate authority.

Filed Date: 10/17/2011.

Accession Number: 20111017-0201.

Comment Date: 5 p.m. Eastern Time on Monday, November 07, 2011.

Docket Numbers: ER12-100-000.

Applicants: Black Oak Capital, LLC.

Description: Black Oak Capital, LLC submits tariff filing per 35.12: Normal rate schedules to be effective 10/17/2011.

Filed Date: 10/17/2011.

Accession Number: 20111017-5087.

Comment Date: 5 p.m. Eastern Time on Monday, November 07, 2011.

Docket Numbers: ER12-101-000.

Applicants: Midwest Independent Transmission System Operator, Inc.

Description: Midwest Independent Transmission System Operator, Inc. submits tariff filing per 35.13(a)(2)(iii: C004-P11 FCA (Ameren-Bishop Hill) to be effective 10/18/2011.

Filed Date: 10/17/2011.

Accession Number: 20111017-5095.

Comment Date: 5 p.m. Eastern Time on Monday, November 07, 2011.

Docket Numbers: ER12-102-000.

Applicants: Dominion Energy Brayton Point, LLC.

Description: Dominion Energy Brayton Point, LLC submits tariff filing per 35: Compliance Filing—MBR Tariff Order of Affiliate Restrictions to be effective 11/21/2011.

Filed Date: 10/17/2011.

Accession Number: 20111017-5115.

Comment Date: 5 p.m. Eastern Time on Monday, November 07, 2011.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 18, 2011.
Nathaniel J. Davis, Sr.,
Deputy Secretary.

[FR Doc. 2011-27623 Filed 10-25-11; 8:45 am]

BILLING CODE 6717-01-P